DEPARTMENT OF HEALTH AND HUMAN SERVICES

Centers for Disease Control and Prevention

Disease, Disability, and Injury Prevention and Control Special Emphasis Panel: Evaluation of Vaccination Reminder/Recall Systems for Adolescent Patients, Funding Opportunity Announcement (FOA) IP07-007, Strategies to Reach the “Unreachable” Through Immunization Registries, FOA IP07-010, and Using Provider Reminder/Recall to Enhance Up-to-Date Coverage of 18-Month Olds, FOA IP07-012

In accordance with section 10(a)(2) of the Federal Advisory Committee Act (Pub. L. 92-463), the Centers for Disease Control and Prevention (CDC) announces a meeting of the aforementioned Special Emphasis Panel.

Time and Date: 12 p.m.-4 p.m., June 18, 2007 (Closed).

Place: Teleconference.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to FOA IP07-007, “Evaluation of Vaccination Reminder/Recall Systems for Adolescent Patients,” FOA IP07-010, “Strategies to Reach the “Unreachable” Through Immunization Registries,” and FOA IP07-012, “Using Provider Reminder/Recall to Enhance Up-to-Date Coverage of 18-Month Olds.”

For Further Information Contact: Trudy Messmer, Ph.D., Designated Federal Official, 1600 Clifton Road, Mailstop C-19, Atlanta, GA 30333, telephone (404) 639-3770.

The Director, Management Analysis and Services Office, has been delegated the authority to sign Federal Register notices pertaining to announcements of meetings and other committee management activities, for both CDC and the Agency for Toxic Substances and Disease Registry.

Dated: May 10, 2007.
Elaine L. Baker,
Acting Director, Management Analysis and Services Office, Centers for Disease Control and Prevention.

[FR Doc. E7-9498 Filed 5-16-07; 8:45 am]

BILLING CODE 4163-18-P